NATIONAL SCIENCE FOUNDATION

Sunshine Act Meetings

The National Science Board (NSB) hereby gives notice of the scheduling of meetings for the transaction of National Science Board business pursuant to the National Science Foundation Act and the Government in the Sunshine Act.

TIME AND DATE: Thursday, December 1, 2022, from 12:30 p.m.-5:05 p.m., and Friday, December 2, 2022, from 9:00 a.m.-1:35 p.m. EST.

PLACE: These meetings will be held at NSF headquarters, 2415 Eisenhower Avenue, Alexandria, VA 22314, and by videoconference. To attend in-person, please email your name as it appears on your photo ID, along with your affiliation, at least 24 hours in advance to nationalsciencebrd@nsf.gov. If the COVID status for Alexandria, Virginia remains “medium” or goes to “high,” please fill out and bring OMB's certification of vaccination form with you. Visitors who are not vaccinated or refuse to divulge their vaccination status will not be admitted. All open sessions of the meeting will be webcast live on the NSB YouTube channel.

December 1, 2022: https://www.youtube.com/watch?v=6LKim21zxUE

STATUS: Parts of these meetings will be open to the public. The rest of the meetings will be closed to the public. See full description below.

MATTERS TO BE CONSIDERED:

Friday, December 1, 2022

Plenary Board Meeting

Open Session: 12:30 p.m.-2:40 p.m.

• NSB Chair's Remarks

• Chair's Activities

• Approval of August 3-4, 2022, open meeting minutes

• NSF Director's Remarks

• Cool Scientists presentations

• Committee Reports

• Committee on Oversight

• Committee on External Engagement

• Committee on Science and Engineering Policy

•Working Group Reports

• Socioeconomic Status Working Group

• Explorations in K-12 STEM Education

• NSB Chair's Closing Remarks

• NSF Director's Closing Remarks

• Senior staff updates

• Office of Legislative and Public Affairs Update information item

Open Session: 2:55 p.m.-4:20 p.m.

• NSB Panel: Addressing Workforce Shortages in Critical Technologies

• NSF Update Sexual Assault/Harassment Prevention Response (SAHPR) report

Open Session: 4:30 p.m.-5:05 p.m.

• Discussion with the Director of the White House Office of Science and Technology Policy, Dr. Arati Prabhakar

• NSB Chair's Remarks

Friday, December 2, 2022

Plenary Board

Closed Session: 9:00 a.m.-10:45 a.m.

• NSB Chair's Remarks

• Approval of August 3-4, 2022, and August 24, 2022, Closed Meeting Minutes

• NSF Director's Remarks

Agency Operating Status

• NSF CHIPS and Science Act Implementation Update

• NSF Update on SAHPR

• Committee Reports

• Committee on Awards and Facilities Report

• Subcommittee on Technology, Innovation, and Partnerships Report

• Committee on Strategy Report

Closed Session: 11:00 a.m.-1:35 p.m.

• Vote to Enter Executive Plenary Closed

• Executive Plenary Closed NSB Chair's Opening Remarks

• Strategic discussion of Technology, Innovation, and Partnerships Directorate Funding Options

• NSB Chair's Remarks

• Approval of August 3-4, 2022, Executive Closed Meeting Minutes

• NSF Director's Remarks, including organizational updates

• Discussion and Vote on 2023 Honorary Awards

• NSB Chair's Closing Remarks

Meeting Adjourns: 1:35 p.m.

Portions Open to the Public

Thursday, December 1, 2022

12:30 p.m.-2:40 p.m. Plenary NSB

2:55 p.m.-4:20 p.m. Plenary NSB

4:30 p.m.-5:05 p.m. Plenary NSB

Portions Closed to the Public

Friday, December 2, 2022

9:00 a.m.-10:45 a.m. Plenary NSB

11:00 a.m.-1:35 p.m. Plenary NSB, executive closed

Members of the public are advised that the NSB provides some flexibility around start and end times. A session may be allowed to run over by as much as 15 minutes if the Chair decides the extra time is warranted. The next session will start no later than 15 minutes after the noticed start time. If a session ends early, the next meeting may start up to 15 minutes earlier than the noticed start time. Sessions will not vary from noticed times by more than 15 minutes.

CONTACT PERSON FOR MORE INFORMATION: The NSB Office contact is Chris Blair, cblair@nsf.gov, 703-292-7000. The NSB Public Affairs contact is Nadine Lymn, nlymn@nsf.gov, 703-292-2490. Please refer to the NSB website for additional information: https://www.nsf.gov/nsb.

Christopher Blair,
Executive Assistant to the National Science Board Office.

[FR Doc. 2022-26056 Filed 11-23-22; 4:15 pm]

BILLING CODE 7555-01-P